DEPARTMENT OF LABOR

Employment and Training Administration

[TA-W-40,590]

Alfa Laval Inc.; Formerly Known as Tri-Clover, Kenosha, Wisconsin; Notice of Negative Determination Regarding Application for Reconsideration

By application of February 21, 2002, the International Association of Machinists and Aerospace Workers, Lodge 34 requested administrative reconsideration of the Department's negative determination regarding eligibility for workers and former workers of the subject firm to apply for Trade Adjustment Assistance (TAA). The denial notice was signed on January 22, 2002, and published in the Federal Register on February 5, 2002 (67 FR 5293).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition, filed on behalf of workers at Alfa Laval Inc., formerly known as Tri-Clover, Kenosha, Wisconsin producing fittings, valves and pumps was denied because the “contributed importantly” group eligibility requirement of section 222(3) of the Trade Act of 1974, as amended, was not met. The investigation revealed that increased imports did not contribute importantly to worker separations at the subject firm during the relevant period. The investigation further revealed that during 2000, Tri-Clover was acquired by a company that also owned Alfa Laval. As both companies produced similar product lines, a strategic business decision was made to consolidate production among multiple facilities. Thus declines in sales, production and employment were attributable to eliminating excess capacity. Plant production of valves and pumps were scheduled to be shifted to other domestic locations during mid2002. Plant production of fittings was transferred to a foreign source, but was not imported back to the United States during the relevant period. The petitioner appears to be alleging that shifts in subject plant production of fittings to a foreign source occurred and that plant production of valves and pumps will be shifted to foreign sources in the near future, therefore the workers of the subject plant should be considered eligible for TAA.

An examination of the initial investigation revealed that shifts in production (fittings) at the subject firm have occurred. The other products (valves and pumps) produced at the subject firm were scheduled to be shifted during mid2002. The shifts in production (also outsourcing) to foreign sources is not relevant to meeting criterion (3) of the Trade Act of 1974. The products produced by the subject firm would have to be imported back into the United States and also must “contribute importantly” to the layoffs at the subject firm for the worker groups engaged in producing fittings, valves and pumps to be certified eligible to apply for TAA. No such evidence was provided to show that this occurred during the relevant period.

Conclusion

After review of the application and investigative findings, I conclude that there has been no error or misinterpretation of the law or of the facts which would justify reconsideration of the Department of Labor's prior decisions. Accordingly, the application is denied.

Signed at Washington, DC, this 6th day of May, 2002.
Edward A. Tomchick,
Director, Division of Trade Adjustment Assistance.

[FR Doc. 02-13942 Filed 6-3-02; 8:45 am]

BILLING CODE 4510-30-P